DEPARTMENT OF TRANSPORTATION

Federal Aviation Administration

Twelfth Meeting; RTCA Tactical Operations Committee (TOC)

AGENCY: Federal Aviation Administration (FAA), U.S. Department of Transportation (DOT).

ACTION: Notice of Twelfth RTCA Tactical Operations Committee Meeting.

SUMMARY: The FAA is issuing this notice to advise the public of the Twelfth RTCA Tactical Operations Committee meeting.

DATES: The meeting will be held March 3, 2016 from 9:00 a.m.-4:00 p.m.

ADDRESSES: The meeting will be held at RTCA, Inc., 1150 18th Street NW., Suite 910, Washington, DC 20036, Tel: (202) 330-0655.

FOR FURTHER INFORMATION CONTACT: The RTCA Secretariat, 1150 18th Street NW., Suite 910, Washington, DC 20036, or by telephone at (202) 833-9339, fax at (202) 833-9434, or Web site at http://www.rtca.org or Trin Mitra, TOC Secretary, RTCA, Inc., tmitra@rtca.org, (202) 330-0655.

SUPPLEMENTARY INFORMATION: Pursuant to section 10(a)(2) of the Federal Advisory Committee Act (Pub. L. 92-463, 5 U.S.C., App.), notice is hereby given for a meeting of RTCA Tactical Operations Committee. The agenda will include the following:

Thursday, March 3, 2016

1. Opening of Meeting/Introduction of TOC Members—Co Chairs Dale Wright and Bryan Quigley

2. Official Statement of Designated Federal Official—Elizabeth Ray

3. Approval of November 12, 2015 Meeting Summary

4. FAA Update—Elizabeth Ray

5. FAA Response to Previous TOC Recommendations: Caribbean Operations and Class B Airspace

6. Recommendations from the Airport Construction Task Group.

7. Recommendations from the National Procedure Assessment Task Group

8. Introduction to new PBN Route Structure Task

9. Discussion on potential task on Graphical TFRs

10. Update on the NextGen Advisory Committee (NAC)

11. FAA briefing on One Engine Inoperative (OEI) procedures

12. Anticipated Issues for TOC consideration and action at the next meeting

13. Other Business

14. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 4, 2016.
Latasha Robinson,
Management & Program Analyst, NextGen, Enterprise Support Services Division, Federal Aviation Administration.

[FR Doc. 2016-02550 Filed 2-8-16; 8:45 am]

BILLING CODE 4910-13-P